DEPARTMENT OF ENERGY

Federal Energy Regulatory Commission

[Project No. 13123-002]

Eagle Crest Energy Company; Notice of Applicant-Proposed Water Pipeline Route for the Proposed Eagle Mountain Pumped Storage Hydroelectric Project and Notice of Public Meetings

January 21, 2011.

On June 22, 2009, Eagle Crest Energy Company (Eagle Crest or applicant) filed an application for an original license with the Federal Energy Regulatory Commission (Commission or FERC) for the proposed Eagle Mountain Pumped Storage Hydroelectric Project (Eagle Mountain Project). This notice describes the water supply pipeline route proposed by the applicant and recommended by staff that is identified in the Commission's draft environmental impact statement (draft EIS). This notice and copies of the draft EIS are being sent to landowners of property that would be crossed by the proposed water supply pipeline. We are currently soliciting comments on the proposed water supply pipeline and the draft EIS. Additionally, as discussed below, we will be hosting two public meetings on February 3, 2011, to discuss the proposed water supply pipeline as well as our other recommendations in the draft EIS.

The proposed Eagle Mountain Project would be located at the inactive Eagle Mountain mine in Riverside County, California, near the town of Desert Center and would consist of: (1) An upper and lower reservoir with surface areas of 191 and 163 acres, respectively; (2) an underground powerhouse with four reversible pump-turbine units each rated at 325 megawatts (MW) for a total generating capacity of 1,300 MW; (3) a 13.5-mile-long transmission line; and (4) groundwater supply facilities including an underground water supply pipeline.

Eagle Crest's proposed water supply wells are about 3 miles northeast of the town of Desert Center. The proposed feeder water lines leading from the location of the wells to the main pipeline would cross several privately owned parcels. The proposed main water supply pipeline would then extend northwest within the right-of-way for the existing 160-kilovolt Southern California Edison transmission line to the intersection with Kaiser Road. After the intersection with Kaiser Road, the proposed water supply pipeline would remain within the Kaiser Road right-of-way to the proposed lower reservoir.

Additional information about the proposed project is available on the FERC Web site at http://www.ferc.gov, using the “e-Library” link. Enter the docket number (P-13123) to access the public record. For assistance, contact FERC Online Support at FERCOnlineSupport@ferc.gov or toll-free at (866) 208-3676, or for TTY, contact (202) 502-8659.

All comments must be filed by Monday, February 28, 2011, and should reference Project No. 13123-002. Comments may be filed electronically via the Internet. See 18 CFR 385.2001(a)(1)(iii) and the instructions on the Commission's Web site (http://www.ferc.gov/docs-filing/ferconline.asp) under the “eFiling” link. For a simpler method of submitting text-only comments, click on “eComment” under the “Documents and Filings” tab. For assistance, please contact FERC Online Support. Although the Commission strongly encourages electronic filing, documents may also be paper-filed. To paper-file, mail an original and eight copies to: Kimberly D. Bose, Secretary, Federal Energy Regulatory Commission, 888 First Street, NE., Washington, DC 20426.

In addition to or in lieu of sending written comments, you are invited to attend a public meeting that will be held to receive comments on the transmission line routes and the draft EIS. The time and location of the meetings are as follows:

Daytime Meeting:

Date: February 3, 2011.

Time: 1 p.m.

Place: University of California at Riverside, Palm Desert Graduate Center.

Address: 75-080 Frank Sinatra Drive, Room B114/117, Palm Desert, California 92211.

Evening Meeting:

Date: February 3, 2011.

Time: 7 p.m.-10 p.m.

Place: University of California at Riverside, Palm Desert Graduate Center.

Address: 75-080 Frank Sinatra Drive, Room B200, Palm Desert, California 92211.

At these meetings, resource agency personnel and other interested persons will have the opportunity to provide oral and written comments and recommendations regarding the draft EIS. The meetings will be recorded by a court reporter, and all statements (verbal and written) will become part of the Commission's public record for the project. This meeting is posted on the Commission's calendar located at http://www.ferc.gov/EventCalendar/EventsList.aspx along with other related information.

For further information, please contact Kenneth Hogan at (202) 502-8434 or at kenneth.hogan@ferc.gov.

Kimberly D. Bose,
Secretary.

[FR Doc. 2011-2145 Filed 1-31-11; 8:45 am]

BILLING CODE 6717-01-P